DEPARTMENT OF ENERGY

Federal Energy Regulatory Commission

[Docket No. ER00-3661-001]

Central Hudson Gas & Electric; Notice of Filing

January 11, 2001.

Take notice that on December 11, 2000, Central Hudson Gas and Electric Corporation (Central Hudson), tendered for filing its FERC Rate Schedule No. 201 which sets forth the terms and charges for transmission facilities provided by the Company to Consolidated Edison company of New York, Inc., and Niagara Mohawk Power Corporation for the transmission of output from the Roseton Generating Station.

Rate Schedule FERC No. 201 is issued in compliance with the October 10, 2000 order issued in Docket No. ER00-3661-000, which required the Company to file rate schedule designations as required in Order No. 614. Accordingly, Rate Schedule FERC No. 201 supersede Rate Schedule FERC No. 42.

Central Hudson states that a copy of its filing was served on Con Edison, Niagara Mohawk and the State of New York Public Service Commission.

Any person desiring to be heard or to protest such filing should file a motion to intervene or protest with the Federal Energy Regulatory Commission, 888 First Street, NE., Washington, DC 20426, in accordance with rules 211 and 214 of the Commission's Rules of Practice and Procedure (18 CFR 385.211 and 385.214). All such motions and protests should be filed on or before January 22, 2001. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance). Comments and protests may be filed electronically via the internet in lieu of paper. See, 18 CFR 385.2001(a)(1)(iii) and the instructions on the Commission's web site at ­http://www.ferc.fed.us/efi/doorbell.htm.

David P. Boergers,
Secretary.

[FR Doc. 01-1417 Filed 1-17-01; 8:45 am]

BILLING CODE 6717-01-M